DEPARTMENT OF ENERGY

Federal Energy Regulatory Commission

Combined Notice of Filings #1

September 11, 2006.

Take notice that the Commission received the following electric rate filings:

Docket Numbers: ER03-742-001.

Applicants: RMKG, LLC.

Description: RMKG, LLC submits its triennial updated market power analysis.

Filed Date: September 6, 2006.

Accession Number: 20060908-0237.

Comment Date: 5 p.m. Eastern Time on Wednesday, September 27, 2006.

Docket Numbers: ER03-1182-004.

Applicants: Tyr Energy, LLC.

Description: Tyr Energy LLC submits its triennial market power analysis pursuant to the Commission's September 11, 2003 Letter Order.

Filed Date: September 8, 2006.

Accession Number: 20060908-5066.

Comment Date: 5 p.m. Eastern Time on Friday, September 29, 2006.

Docket Numbers: ER04-925-013; ER99-830-019.

Applicants: Merrill Lynch Commodities, Inc.; Merrill Lynch Capital Services, Inc.

Description: Merrill Lynch Commodities, Inc et al. submit a notice of non-material change in the characteristics that FERC relied upon in granting the market-basked rate authority.

Filed Date: September 6, 2006.

Accession Number: 20060908-0238.

Comment Date: 5 p.m. Eastern Time on Wednesday, September 27, 2006.

Docket Numbers: ER06-185-002.

Applicants: New York Independent System Operator, Inc.

Description: New York Independent Sys Op, Inc. submits its initial informational filing pursuant to the Commission's April 7, 2006 Order and request for limited tariff waiver.

Filed Date: September 5, 2006.

Accession Number: 20060908-0232.

Comment Date: 5 p.m. Eastern Time on Tuesday, September 26, 2006.

Docket Numbers: ER06-963-002.

Applicants: Central Maine Power Company.

Description: Central Maine Power Co submits its revised tariff sheets, First Revised Sheet 2318 et al, in compliance with the Commission's August 7, 2006 order.

Filed Date: September 6, 2006.

Accession Number: 20060908-0239.

Comment Date: 5 p.m. Eastern Time on Wednesday, September 27, 2006.

Docket Numbers: ER06-992-001.

Applicants: Otter Tail Power Company.

Description: Otter Tail Power Company submits its Compliance Filing to the Commission's July 5, 2006 FERC's order.

Filed Date: September 6, 2006.

Accession Number: 20060907-0021.

Comment Date: 5 p.m. Eastern Time on Wednesday, September 27, 2006.

Docket Numbers: ER06-1178-001; ER06-1179-001.

Applicants: SEMASS Partnership.

Description: SEMASS Partnership submits revised versions of FERC Electric Rate Schedule 1 and its supplements in compliance with FERC's August 7, 2006 letter order.

Filed Date: September 6, 2006.

Accession Number: 20060908-0240.

Comment Date: 5 p.m. Eastern Time on Wednesday, September 27, 2006.

Docket Numbers: ER06-1336-001.

Applicants: PJM Interconnection, LLC.

Description: PJM Interconnection LLC submits an amendment to its August 4, 2006 filing of an unexecuted interconnection service agreement with Indeck-Elwood, LLC.

Filed Date: September 7, 2006.

Accession Number: 20060908-0234.

Comment Date: 5 p.m. Eastern Time on Thursday, September 28, 2006.

Docket Numbers: ER06-1469-000.

Applicants: California Independent System Operator Corporation.

Description: California Independent System Operator Corp. submits an amendment to the Responsible Participating Transmission Owner Agreement with Pacific Gas and Electric Co.

Filed Date: September 6, 2006.

Accession Number: 20060907-0163.

Comment Date: 5 p.m. Eastern Time on Wednesday, September 27, 2006.

Docket Numbers: ER06-1470-000.

Applicants: California Independent System Operator Corporation.

Description: California Independent System Operator Corp. submits a Pilot Pseudo Tie Implementation Agreement with Pacific Gas and Electric Co et al.

Filed Date: September 6, 2006.

Accession Number: 20060907-0162.

Comment Date: 5 p.m. Eastern Time on Wednesday, September 27, 2006.

Docket Numbers: ER06-1471-000.

Applicants: Westar Energy, Inc.

Description: Westar Energy, Inc. submits its First Revised Sheet 27 et al. to FERC Electric Tariff, Second Revised Volume 1 to be effective July 1, 2006.

Filed Date: September 6, 2006.

Accession Number: 20060908-0179.

Comment Date: 5 p.m. Eastern Time on Wednesday, September 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-15419 Filed 9-15-06; 8:45 am]

BILLING CODE 6717-01-P